DEPARTMENT OF AGRICULTURE

Submission for OMB Review; Comment Request

June 13, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of the Summer Food Service Program Enhancement Demonstration Food Backs and Meal Delivery.

OMB Control Number: 0584-NEW.

Summary of Collection: The Agriculture, Rural Development, Food and Drug Administration, and Related Agencies Appropriations Act of 2010 (Pub. L., 111-80), Section 749(g), directed that the Secretary of Agriculture shall carry out demonstration projects to develop and test methods of providing access to food for children in urban and rural areas during the summer months when schools are not in regular session to reduce or eliminate the food insecurity and hunger of children and to improve the nutritional status of children. These demonstrations will include the Home Delivery Demonstration and the Food Backpack Demonstration.

Need and Use of the Information: The data collected in this evaluation will be used by the Food and Nutrition Service (FNS) to provide policymakers with information to make decisions about potential changes in Federal summer food nutrition programs for children. The specific goals of the evaluation are to assess the following: (1) The impact of each Summer Food Service Program (SFSP) enhancement demonstration model on participation and meal service; (2) The food security status among recipients of the home delivered meals and backpack demonstration; (3) The “targeting accuracy” in the Meal Delivery and Backpack demonstrations; (4) The process of project implementation in each SFSP enhancement demonstration; and (5) The total and component specific costs of implementing and operating SFSP demonstrations. Data will be collected by telephone, face-to-face, electronically, and over the internet.

Description of Respondents: Individuals or household; State, Local or Tribal Government; Business or other for-profit.

Number of Respondents: 1,181.

Frequency of Responses: Reporting: On occasion; Annually.

Total Burden Hours: 652.

Ruth Brown,
Departmental Information Collection Clearance Officer.

[FR Doc. 2011-14994 Filed 6-15-11; 8:45 am]

BILLING CODE 3410-30-P